INTERNATIONAL TRADE COMMISSION

[Investigation Nos. 701-TA-436 (Preliminary) and 731-TA-1042 (Preliminary)]

Certain Colored Synthetic Organic Oleoresinous Pigment Dispersions From India

Determination

On the basis of the record ¹ developed in the subject investigations, the United States International Trade Commission (Commission) determines, pursuant to sections 703(a) and 733(a) of the Tariff Act of 1930 (19 U.S.C. 1671b(a) and 19 U.S.C. 1673b(a)) (the Act), that there is no reasonable indication that an industry in the United States is materially injured or threatened with material injury, or that the establishment of an industry in the United States is materially retarded, by reason of imports from India of certain colored synthetic organic oleoresinous pigment dispersions ² that are alleged to be subsidized by the Government of India and alleged to be sold in the United States at less than fair value (LTFV).

¹ The record is defined in sec. 207.2(f) of the Commission's Rules of Practice and Procedure (19 CFR 207.2(f)).

² Certain colored synthetic organic pigment dispersions subject to these investigations are classifiable under statistical reporting numbers 3204.17.6020 (Pigment Blue 15:4) and 3204.17.6085 (Pigments Red 48:1, Red 48:2, Red 48:3, and Yellow 174), 3204.17.9005 (Pigment Blue 15:3), 3204.17.9010 (Pigment Green 7), 3204.17.9015 (Pigment Green 36), 3204.17.9020 (Pigment Red 57:1), 3204.17.9045 (Pigment Yellow 12), 3204.17.9050 (Pigment Yellow 13), 3204.17.9055 (Pigment Yellow 74), and 3204.17.9086, which prior to July 2002 was 3204.17.9085 (Pigments Red 22, Red 48:4, Red 49:1, Red 49:2, Red 52:1, Red 53:1, Yellow 14, and Yellow 83) of the Harmonized Tariff Schedule of the United States.

Background

On June 5, 2003, a petition was filed with the Commission and Commerce by Apollo Colors, Inc., Rockdale, IL; General Press Colors, Ltd., Addison, IL; Magruder Color Company, Inc., Elizabeth, NJ; and Sun Chemical Corporation, Fort Lee, NJ, alleging that an industry in the United States is materially injured or threatened with material injury by reason of subsidized and LTFV imports of certain colored synthetic organic oleoresinous pigment dispersions from India. Accordingly, effective June 5, 2003, the Commission instituted countervailing duty investigation No. 701-TA-436 (Preliminary) and antidumping duty investigation No. 731-TA-1042 (Preliminary).

Notice of the institution of the Commission's investigation and of a public conference to be held in connection therewith was given by posting copies of the notice in the Office of the Secretary, U.S. International Trade Commission, Washington, DC, and by publishing the notice in the Federal Register of June 11, 2003 (68 FR 35003). The conference was held in Washington, DC on June 27, 2003, and all persons who requested the opportunity were permitted to appear in person or by counsel.

The Commission transmitted its determination in this investigation to the Secretary of Commerce on July 21, 2003. The views of the Commission are contained in USITC Publication 3615 (July 2003), entitled Certain Colored Synthetic Organic Oleoresinous Pigment Dispersions from India: Investigation Nos. 701-TA-436 (Preliminary) and 731-TA-1042 (Preliminary).

By order of the Commission.
Issued: July 21, 2003.
Marilyn R. Abbott,
Secretary to the Commission.

[FR Doc. 03-18926 Filed 7-24-03; 8:45 am]

BILLING CODE 7020-02-P